INTERNATIONAL TRADE COMMISSION

[Investigation No. 337-TA-1241]

Certain Electrical Connectors and Cages, Components Thereof, and Products Containing the Same; Notice of a Commission Final Determination Finding a Violation of Section 337; Issuance of a Limited Exclusion Order and Cease and Desist Orders; Termination of the Investigation

AGENCY: U.S. International Trade Commission.

ACTION: Notice.

SUMMARY: Notice is hereby given that the U.S. International Trade Commission (“Commission”) has determined that a violation of the Tariff Act of 1930, as amended, has occurred with respect to U.S. Patent No. 7,371,117 (“the '117 patent”). The Commission has determined that no violation of section 337 has occurred as to U.S. Patent Nos. 9,705,255 (“the '255 patent”) and 10,381,767 (“the '767 patent”). The Commission has issued a limited exclusion order (“LEO”) prohibiting the importation of certain electrical connectors and cages, components thereof, and products containing the same that infringe certain claims of the '117 patent, as well as cease and desist orders (“CDOs”) against the named respondents. This investigation is terminated.

FOR FURTHER INFORMATION CONTACT: Amanda P. Fisherow, Office of the General Counsel, U.S. International Trade Commission, 500 E Street SW, Washington, DC 20436, telephone (202) 205-2737. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: On January 26, 2021, the Commission instituted this investigation under section 337, based on a complaint filed by Amphenol Corp. of Wallingford, Connecticut (“Amphenol,” or “Complainant”). 86 FR 7104-05 (Jan. 26, 2021). The complaint alleged a violation of section 337 in the importation into the United States, the sale for importation, or the sale within the United States after importation of electrical connectors and cages, components thereof, and products containing the same by reason of infringement of certain claims of the '117 patent; U.S. Patent No. 8,371,875 (“the '875 patent”); U.S. Patent No. 8,864,521 (“the '521 Patent”); the '255 patent; and the '767 patent. The complaint also alleged the existence of a domestic industry. The notice of investigation named as respondents: Luxshare Precision Industry Co., Ltd. and Dongguan Luxshare Precision Industry Co. Ltd., both of Dongguan City, China; Luxshare Precision Limited (HK) of Fotan, Hong Kong; and Luxshare-ICT Inc. of Milpitas, California (collectively, “Luxshare,” or “Respondents”). Id. at 7104. The Commission's Office of Unfair Import Investigations was not named as a party in this investigation. Id.

Subsequently, the administrative law judge (“ALJ”) granted Complainant's motion for partial termination of the investigation by withdrawal of the '875 and the '521 patents, and claims 2, 14, 17-19, and 25-27 of the '117 patent; claims 1-3, 5-8, and 18 of the '255 patent; and claims 2-3, 7, 14, 20-22, 30, and 32 of the '767 patent. See Order No. 29 (Oct. 13, 2021), unreviewed by Comm'n Notice (Nov. 3, 2021). The ALJ also granted in part and denied in part Complainant's motion for summary determination that it has satisfied the importation requirement. See Order No. 34 (Oct. 28, 2021), unreviewed by Comm'n Notice (Nov. 29, 2021). The ALJ also granted in part Luxshare's motion for summary determination that the importation requirement has not been met for certain products. See Order No. 35 (Oct. 28, 2021). On November 29, 2021, the Commission determined to review that determination and it is currently under review. Comm'n Notice (Nov. 29, 2021).

On March 11, 2022, the ALJ issued the final initial determination (“ID”). On March 25, 2022, Complainant petitioned for review of the final ID. On April 4, 2022, Respondents filed a response.

On June 21, 2022, the Commission determined to review the ID in part. 87 FR 38180 (June 17, 2022). Specifically, the Commission determined to review the ID's findings regarding: (1) importation, including any findings impacted by the determination on importation; (2) the Redesigned Products; (3) infringement for claim 9 of the '117 patent; (4) the claim construction of the term “contact tail adapted for attachment to the printed circuit board that is perpendicular to the . . . printed circuit board” of the '767 patent; (5) infringement for claims 1, 4-6, 9-13, 15-17, 19, and 23 of the '767 patent; (6) the technical prong of the domestic industry requirement for the '767 patent; (7) obviousness for the '767 patent; and (8) the economic prong of the domestic industry requirement. The Commission determined not to review any other findings, including the ID's findings that Luxshare does not infringe the asserted claims of the '255 patent. The Commission asked for briefing on remedy, bonding, and the public interest, as well as one question related to importation. The parties filed their opening submissions on July 6, 2022, and their reply submissions on July 13, 2022.

Having reviewed the record of the investigation, including the ID and the parties' submissions, the Commission has found a violation of section 337 with respect to asserted claims 1, 9, 24, and 29 of the '117 patent. The Commission (1) finds that at least one product from each of the accused product groups, with the exception of the QSFP 2x1 Press-fit products, has been imported; (2) affirms the ID's finding of infringement of claim 9 of the '117 patent with modified reasoning; (3) for the '767 patent, affirms the ID's construction of “contact tail adapted for attachment to the [PCB] that is perpendicular to the . . . [PCB]” with modified reasoning; (4) affirms the ID's determination on infringement for claim 1 of the '767 patent with modified reasoning; (5) affirms the ID's determination on infringement/non-infringement for claims 4-6, 9-13, 15-17, 19, and 23 of the '767 patent; (6) affirms the ID's findings with respect to the technical prong of the domestic industry requirement for the '767 patent; (7) affirms the ID's obviousness findings for the '767 patent; (8) takes no position on the economic prong of the domestic industry requirement under subsection 337(a)(3)(A) (plant and equipment) for all patents; (9) takes no position on the economic prong of the domestic industry requirement for the '767 patent; and (10) affirms the ID's findings on the economic prong of the domestic industry requirement under subsection 337(a)(3)(B) (employment of labor or capital) for the '255 and '117 patents.

In addition, the Commission finds that the public interest factors do not preclude issuance of the requested relief. See 19 U.S.C. 1337(d)(1), (f)(1). The Commission therefore has determined that the appropriate remedy in this investigation is: (1) an LEO prohibiting the unlicensed entry of certain electrical connectors and cages, components thereof, and products containing the same that infringe one or more of claims 1, 9, 24, and 29 of the '117 patent; and (2) CDOs against each of the named Luxshare respondents. The Commission has also determined that the bond during the period of Presidential review shall be in the amount of one hundred percent (100%) of the entered value of the infringing products that are subject to the LEO and CDOs. See 19 U.S.C. 1337(j).

The Commission's reasoning in support of its determinations is set forth more fully in its opinion that is issued concurrently herewith. The Commission's opinion and orders were delivered to the President and to the United States Trade Representative on the day of their issuance. The investigation is hereby terminated.

The Commission vote for this determination took place on September 8, 2022.

The authority for the Commission's determination is contained in section 337 of the Tariff Act of 1930, as amended (19 U.S.C. 1337), and in part 210 of the Commission's Rules of Practice and Procedure (19 CFR part 210).

By order of the Commission.
Issued: September 8, 2022.
Katherine Hiner,
Acting Secretary to the Commission.

[FR Doc. 2022-19811 Filed 9-13-22; 8:45 am]

BILLING CODE 7020-02-P